DEPARTMENT OF STATE

[Public Notice 5487]

Certification Related to Aerial Eradication in Colombia Under the Andean Counterdrug Initiative Section of the Foreign Operations, Export Financing, and Related Programs Appropriations Act, Division D, Consolidated Appropriations Act, 2006, (Pub. L. 109-102)

Pursuant to the authority vested in me as Secretary of State, including under the Andean Counterdrug Initiative section of the Foreign Operations, Export Financing, and Related Programs Appropriations Act, Division D, Consolidated Appropriations Act, 2006, (Pub. L. 109-102) (the “FOAA”), I hereby determine and certify that: (1) The herbicide mixture used for fumigation of illicit crops in Colombia is being used in accordance with EPA label requirements for comparable use in the United States and in accordance with Colombian laws; and (2) the herbicide mixture, in the manner it is being used, does not pose unreasonable risks or adverse effects to humans or the environment, including endemic species; (3) that complaints of harm to health or licit crops caused by such fumigation are evaluated and fair compensation is being paid for meritorious claims; and (4) that programs are being implemented by the United States Agency for International Development, the Government of Colombia, or other organizations, in consultation with local communities, to provide alternative sources of income in areas where security permits for small-acreage growers whose illicit crops are targeted for fumigation.

This Certification shall be published in the Federal Register and copies shall be transmitted to the appropriate committees of Congress.

Dated: July 20, 2006.
Condoleezza Rice,
Secretary of State, Department of State.

[FR Doc. E6-12979 Filed 8-8-06; 8:45 am]

BILLING CODE 4710-17-P